DEPARTMENT OF ENERGY

Federal Energy Regulatory Commission

[Project No. 2205-051]

Central Vermont Public Service Corporation; Notice of Application for Amendment of License and Soliciting Comments, Motions To Intervene, and Protests

January 21, 2010.

Take notice that the following application has been filed with the Commission and is available for public inspection.

a. Application Type: Amendment to Recreation Plan.

b. Project No.: 2205-051.

c. Dated Filed: December 7, 2009.

d. Applicant: Central Vermont Public Service Corporation.

e. Name of Project: Lamoille River Project.

f. Location: The Clark Falls development is located on the Lamoille River, in Chittenden County, Vermont.

g. Filed Pursuant to: Federal Power Act, 16 U.S.C. 791(a)—825(r).

h. Application Contact: Mr. Michael Scarzello, P.E., Central Vermont Public Service Corporation, 77 Grove Street, Rutland, VT 05701, telephone: (802) 747-5207.

i. FERC Contact: Any questions on this notice should be addressed to Shana High at (202) 502-8674.

j. Deadline for filing comments and/or motions: February 22, 2010. All documents (original and eight copies) should be filed with: Secretary, Federal Energy Regulatory Commission, 888 First Street, NE., Washington, DC 20426.

k. Description of Request: The licensee requests to relocate a carry-in access for canoes and car-top boats about one mile from the south end of Arrowhead Mountain Reservoir to Rugg Avenue in Milton, Vermont, near the east end of Clark Falls dam. Improvements at the canoe portage point would include parking for four vehicles.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary link. Enter the docket number excluding the last three digits in the docket number field (P-2205) to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's e-mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTESTS”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically, via the Internet in lieu of paper. See, 18 CFR 385.2001(a)(1)(iii) and the instructions on the Commission's Web site at http://www.ferc.gov under the “e-Filing” link.

Kimberly D. Bose,
Secretary.

[FR Doc. 2010-1677 Filed 1-27-10; 8:45 am]

BILLING CODE 6717-01-P